DEPARTMENT OF THE INTERIOR

Fish and Wildlife Service

Endangered and Threatened Species Permit Application

AGENCY: Fish and Wildlife Service, Interior.

ACTION: Notice of receipt of application.

The following applicant has applied for a permit to conduct certain activities with endangered species. This notice is provided pursuant to section 10(c) of the Endangered Species Act of 1973, as amended (16 U.S.C. 1531, et seq.).

Permit Number TE839777

Applicant: Don R. Helms, Bellevue, Iowa

The applicant requests a permit to take (capture, handle and release) the following federally listed unionid mussel species in Illinois, Indiana, Iowa, Kentucky, Minnesota, Missouri, Ohio, West Virginia, and Wisconsin: Fanshell (Cyprogenia stegaria), Fat pocketbook (Potamilus capax), Higgins' eye pearlymussel (Lampsilis higginsi), Scaleshell mussel (Leptodea leptodon), and Winged mapleleaf mussel (Quadrula fragosa), Clubshell (Pleurobema clava), Cracking pearlymussel (Hemistena lata), Northern riffleshell (Epioblasma torulosa rangiana), Orange-footed pimpleback pearlymussel (Plethobasus cooperianus), Pink mucket pearlymussel (Lampsilis orbiculata), Ring pink mussel (Obovaria retusa), Rough pigtoe (Pleurobema plenum), Tubercled-blossom pearlymussel (Epioblasma torulosa torulosa), Purple cat's paw pearlymussel (Epioblasma obliquata obliquata), White cat's paw pearlymussel (Epioblasma obliquata perobliqua), and White wartyback pearlymussel (Plethobasus cicatricosus). The applicant requests the permit to collect the threatened and endangered mussel species in all areas located within the Upper Mississippi, Illinois, and Ohio River watersheds. Activities are proposed for studies to identify populations of listed mussel species, develop methods to minimize or avoid project related impacts to those populations, and to identify new populations of listed unionid species. The scientific research is aimed at enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who requests a copy of such documents from the following office within 30 days of the date of publication of this notice: U.S. Fish and Wildlife Service, Ecological Services Operations, 1 Federal Drive, Fort Snelling, Minnesota 55111-4056, peter—fasbender@fws.gov, telephone (612) 713-5343, or FAX (612) 713-5292.

Dated: January 8, 2001.
Charlie Wooley,
Assistant Regional Director, Ecological Services, Region 3, Fort Snelling, Minnesota.

[FR Doc. 01-1300 Filed 1-16-01; 8:45 am]

BILLING CODE 4310-55-P